NATIONAL SCIENCE FOUNDATION

STEM Education Advisory Panel; Notice of Meeting

In accordance with the Federal Advisory Committee Act (Pub. L. 92-463, as amended), the National Science Foundation (NSF) announces the following meeting:

Name and Committee Code: STEM Education Advisory Panel (#2624).

Date and Time: August 2, 2021; 11:00 a.m.-5:30 p.m.

Place: Virtual meeting sponsored by National Science Foundation, Directorate for Education and Human Resources, 2415 Eisenhower Avenue, Alexandria, VA 22314.

All visitors must register at least 48 hours before the meeting. To attend this virtual meeting in listen-in only mode, send your request to stemedadvisory@nsf.gov. The final meeting agenda will be posted to: https://www.nsf.gov/ehr/advisory.jsp.

Type of Meeting: Open.

Contact Person: Keaven Stevenson, Directorate Administrative Coordinator, Room C11001, National Science Foundation, 2415 Eisenhower Avenue, Alexandria, VA 22314. Contact Information: 703-292-8600/kstevens@nsf.gov.

Summary of Minutes: Agenda and Minutes will be available on the STEM Education Advisory Panel website at https://nsf.gov/ehr/STEMEdAdvisory.jsp or can be obtained from Charisse Carnie-Nunes, National Science Foundation, 2415 Eisenhower Ave., Room C11000, Alexandria, VA 22314; (703) 292-8600; stemedadvisory@nsf.gov.

Purpose of Meeting: To provide advice to the Committee on Science, Technology, Engineering, and Mathematics Education (CoSTEM) and to assess CoSTEM's progress.

Agenda

• Welcoming Remarks

• NSTC and CoSTEM

• Stem Education Advisory Panel Report Recap

• Update—FC-Stem, Tiger Teams Communities of Practice

• Update—Interagency Working Groups

• Panel Discussion

• Closing Remarks

Dated: July 1, 2021.
Crystal Robinson,
Committee Management Officer.

[FR Doc. 2021-14501 Filed 7-7-21; 8:45 am]

BILLING CODE 7555-01-P